DEPARTMENT OF HOMELAND SECURITY

Federal Emergency Management Agency

[Docket ID FEMA-2026-0002; Internal Agency Docket No. FEMA-B-2581]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Assistant Administrator, Federal Insurance Directorate, Resilience reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Deputy Administrator, Federal Insurance Directorate, Resilience Federal Emergency Management Agency, Department of Homeland Security.

State and county | Location and case No. | Chief executive officer of community | Community map repository | Online location of letter of map revision | Date of modification | Community No.
Arkansas: Benton | City of Bentonville (24-06-1583P). | The Honorable Stephanie Orman, Mayor, City of Bentonville, 305 Southwest A Street, Bentonville, AR 72712. | Municipal Complex, 3200 Southwest Municipal Drive, Bentonville, AR 72712. | https://msc.fema.gov/portal/advanceSearch. | Mar. 30, 2026 | 050012
Florida:
Hillsborough | Unincorporated areas of Hillsborough County (25-04-4071P). | Bonnie Wise, Hillsborough County Administrator, 601 East Kennedy Boulevard, 26th Floor, Tampa, FL 33602. | Hillsborough County Public Works, 601 East Kennedy Boulevard, 22nd Floor, Tampa, FL 33602. | https://msc.fema.gov/portal/advanceSearch. | Apr. 9, 2026 | 120112
Lake | City of Mount Dora (24-04-3562P). | The Honorable James Homich, Mayor, City of Mount Dora, 510 North Baker Street, Mount Dora, FL 32757. | City Hall, 510 North Baker Street, Mount Dora, FL 32757. | https://msc.fema.gov/portal/advanceSearch. | Mar. 31, 2026 | 120137
Lake | Unincorporated areas of Lake County (24-04-2676P). | The Honorable Leslie Campione, Chair, Lake County Board of Commissioners, 315 West Main Street, Tavares, FL 32778. | Lake County Public Works Department, 323 North Sinclair Avenue, Tavares, FL 32778. | https://msc.fema.gov/portal/advanceSearch. | Apr. 1, 2026 | 120421
Lake | Unincorporated areas of Lake County (24-04-3562P). | The Honorable Leslie Campione, Chair, Lake County Board of Commissioners, 315 West Main Street, Tavares, FL 32778. | Lake County Public Works Department, 323 North Sinclair Avenue, Tavares, FL 32778. | https://msc.fema.gov/portal/advanceSearch. | Mar. 31, 2026 | 120421
Lake | Unincorporated areas of Lake County (25-04-5546P). | The Honorable Leslie Campione, Chair, Lake County Board of Commissioners, 315 West Main Street, Tavares, FL 32778. | Lake County Public Works Department, 323 North Sinclair Avenue, Tavares, FL 32778. | https://msc.fema.gov/portal/advanceSearch. | Apr. 13, 2026 | 120421
Lee | Village of Estero (25-04-3811P). | The Honorable Joanne Ribble, Mayor, Village of Estero, 9401 Corkscrew Palms Circle, Estero, FL 33928. | Village Hall, 9401 Corkscrew Palms Circle, Estero, FL 33928. | https://msc.fema.gov/portal/advanceSearch. | Feb. 5, 2026 | 120260
Orange | City of Winter Park (24-04-0965X). | The Honorable Sheila DeCiccio, Mayor, City of Winter Park, 401 South Park Avenue, Winter Park, FL 32789. | City Hall, 401 South Park Avenue, Winter Park, FL 32789. | https://msc.fema.gov/portal/advanceSearch. | Apr. 1, 2026 | 120188
Palm Beach | Village of Royal Palm Beach (25-04-0417P). | The Honorable Jeff Hmara, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Feb. 10, 2026 | 120225
Walton | Unincorporated areas of Walton County (25-04-2986P). | The Honorable Donna Johns, Chair, Walton County Board of Commissioners, P.O. Box 1355, DeFuniak Springs, FL 32433. | Walton County Administrative Office, 76 North 6th Street, DeFuniak Springs, FL 32433. | https://msc.fema.gov/portal/advanceSearch. | Apr. 9, 2026 | 120317
Georgia:
Douglas | Unincorporated areas of Douglas County (25-04-0435P). | The Honorable Romona Jackson Jones, Chair, Douglas County Board of Commissioners, 8700 Hospital Drive, 3rd Floor, Douglasville, GA 30134. | Douglas County Development Services, 4655 Timber Ridge Drive, Douglasville, GA 30135. | https://msc.fema.gov/portal/advanceSearch. | Feb. 9, 2026 | 130306
Gwinnett and Hall | City of Buford (24-04-2539P). | The Honorable Phillip Beard, Chair, City of Buford Board of Commissioners, 2300 Buford Highway, Buford, GA 30518. | City Hall, 2300 Buford Highway, Buford, GA 30518. | https://msc.fema.gov/portal/advanceSearch. | Feb. 5, 2026 | 130323
Gwinnett and Hall | City of Rest Haven (24-04-2539P). | The Honorable Kenneth Waycaster, Mayor, City of Rest Haven, 428 Thunder Road, Buford, GA 30518. | City Hall, 428 Thunder Road, Buford, GA 30518. | https://msc.fema.gov/portal/advanceSearch. | Feb. 5, 2026 | 130327
Maryland: Baltimore | Unincorporated areas of Baltimore County (25-03-0212P). | Katherine A. Klausmeier, Baltimore County Executive, 400 Washington Avenue, Mezzanine Level, Towson, MD 21204. | Baltimore County Courthouse, 400 Washington Avenue, Towson, MD 21204. | https://msc.fema.gov/portal/advanceSearch. | Apr. 2, 2026 | 240010
Michigan:
Bay | City of Bay City (25-05-0882P). | The Honorable Christopher Girard, Mayor, City of Bay City, 301 Washington Avenue, Bay City, MI 48708. | City Hall, 301 Washington Avenue, Bay City, MI 48708. | https://msc.fema.gov/portal/advanceSearch. | Feb. 18, 2026 | 260020
Shiawassee | Charter Township of Caledonia (24-05-2647P). | Amy Holek, Supervisor, Charter Township of Caledonia, 135 North State Road, Owosso, MI 48867. | Township Hall, 135 North State Road, Owosso, MI 48867. | https://msc.fema.gov/portal/advanceSearch. | Apr. 13, 2026 | 260300
Shiawassee | City of Corunna (24-05-2647P). | The Honorable Wayne LeDuc, Mayor, City of Corunna, 402 North Shiawassee Street, Corunna, MI 48817. | City Hall, 402 North Shiawassee Street, Corunna, MI 48817. | https://msc.fema.gov/portal/advanceSearch. | Apr. 13, 2026 | 260602
Mississippi: Harrison | City of Pass Christian (25-04-3030P). | The Honorable Kenny Torgeson, Mayor, City of Pass Christian, 200 West Scenic Drive, Pass Christian, MS 39571. | City Hall, 200 West Scenic Drive, Pass Christian, MS 39571. | https://msc.fema.gov/portal/advanceSearch. | Apr. 9, 2026 | 285261
North Carolina:
Alamance | Unincorporated areas of Alamance County (25-04-3873P). | The Honorable John P. Paisley, Chair, Alamance County Board of Commissioners, 124 West Elm Street Graham, NC 27253. | Alamance County Manager Office, 124 West Elm Street Graham, NC 27253. | https://msc.fema.gov/portal/advanceSearch. | Jan. 23, 2026 | 370001
Lincoln | Unincorporated areas of Lincoln County (25-04-2116P). | Jamie Lineberger, Chair, Lincoln County Board of Commissioners, 353 North Generals Boulevard, Lincolnton, NC 28092. | Lincoln County Development Services, 115 West Main Street 3rd Floor, Lincolnton, NC 28092. | https://msc.fema.gov/portal/advanceSearch. | Jan. 22, 2026 | 370146
Tennessee:
Knox | Town of Farragut (25-04-2233P). | The Honorable Ron Williams, Mayor, Town of Farragut, 11408 Municipal Center Drive, 2nd Floor, Farragut, TN 37934. | Town Hall, 11408 Municipal Center Drive, Farragut, TN 37934. | https://msc.fema.gov/portal/advanceSearch. | Feb. 10, 2026 | 470387
Maury | Unincorporated areas of Maury County (25-04-6346P). | The Honorable Sheila Butt, Mayor, Maury County, 41 Public Square, Columbia, TN 38401. | Building and Zoning Office, 5 Public Square, Columbia, TN 38401. | https://msc.fema.gov/portal/advanceSearch. | Apr. 2, 2026 | 470123
Williamson | Unincorporated areas of Williamson County (25-04-1944P). | The Honorable Rogers Anderson, Mayor, Williamson County, 1320 West Main Street, Suite 125, Franklin, TN 37064. | Williamson County Engineering, 1320 West Main Street, Franklin, TN 37064. | https://msc.fema.gov/portal/advanceSearch. | Apr. 10, 2026 | 470204
Texas:
Bexar | City of St. Hedwig (25-06-0332P). | The Honorable Dee Grimm, Mayor, City of St. Hedwig, P.O. Box 40, St. Hedwig, TX 78152. | Building and Development Department, P.O. Box 40, St. Hedwig, TX 78152. | https://msc.fema.gov/portal/advanceSearch. | Feb. 23, 2026 | 481132
Bexar | Unincorporated areas of Bexar County (25-06-0332P). | The Honorable Peter Sakai, Bexar County Judge, 101 West Nueva Street, 10th Floor, San Antonio, TX 78205. | Bexar County Public Works Department, 1948 Probandt Street, San Antonio, TX 78214. | https://msc.fema.gov/portal/advanceSearch. | Feb. 23, 2026 | 480035
Brazos | City of Bryan (24-06-2285P). | The Honorable Bobby Gutierrez, Mayor, City of Bryan, 300 South Texas Avenue, Bryan, TX 77803. | City Hall, 300 South Texas Avenue, Bryan, TX 77803. | https://msc.fema.gov/portal/advanceSearch. | Feb. 18, 2026 | 480082
Dallas | City of Richardson (25-06-1862P). | The Honorable Amir Omar, Mayor, City of Richardson, 2360 Campbell Creek Boulevard, Suite 525, Richardson, TX 75082. | Temporary City Hall Annex, 2360 Campbell Creek Boulevard, Suite 550, Richardson, TX 75082. | https://msc.fema.gov/portal/advanceSearch. | Apr. 6, 2026 | 480184
Denton | Unincorporated areas of Denton County (25-06-0621P). | The Honorable Andy Eads, Denton County Judge, 1 Courthouse Drive, Denton, TX 76208. | Denton County Development Services, 3900 Morse Street, Denton, TX 76208. | https://msc.fema.gov/portal/advanceSearch. | Apr. 2, 2026 | 480774
Ellis | City of Midlothian (24-06-2003P). | The Honorable Justin Coffman, Mayor, City of Midlothian, 215 North 8th Street, Midlothian, TX 76065. | City Hall, 215 North 8th Street, Midlothian, TX 76065. | https://msc.fema.gov/portal/advanceSearch. | Apr. 6, 2026 | 480801
Harris | City of Pasadena (24-06-0691P). | The Honorable Thomas Schoenbein, Mayor, City of Pasadena, 1149 Ellsworth Drive, Pasadena, TX 77506. | Engineering Department, 1114 Davis Street, Pasadena, TX 77502. | https://msc.fema.gov/portal/advanceSearch. | Feb. 17, 2026 | 480307
Harris | Unincorporated areas of Harris County (24-06-0691P). | The Honorable Lina Hidalgo, Harris County Judge, 1001 Preston Street, Suite 911, Houston, TX 77002. | Harris County Permit Office, 1111 Fannin Street, 8th Floor, Houston, TX 77002. | https://msc.fema.gov/portal/advanceSearch. | Feb. 17, 2026 | 480287
Tarrant | City of Bedford (24-06-0457P). | Andrea Roy, Manager, City of Bedford, 2000 Forest Ridge Drive, Bedford, TX 76021. | Engineering Department, 1805 L. Don Dodson Drive, Bedford, TX 76021. | https://msc.fema.gov/portal/advanceSearch. | Apr. 13, 2026 | 480585
Tarrant | City of Colleyville (24-06-0457P). | The Honorable Bobby Lindamood, Mayor, City of Colleyville, 100 Main Street, Colleyville, TX 76034. | Public Works Engineering Division, 100 Main Street, 2nd Floor, Colleyville, TX 76034. | https://msc.fema.gov/portal/advanceSearch. | Apr. 13, 2026 | 480590
Williamson | City of Round Rock (25-06-0434P). | The Honorable Craig Morgan, Mayor, City of Round Rock, 221 East Main Street, Round Rock, TX 78664. | City Hall, 221 East Main Street, Round Rock, TX 78664. | https://msc.fema.gov/portal/advanceSearch. | Apr. 2, 2026 | 481048
Virgina:
Chesterfield | Unincorporated areas of Chesterfield County (25-03-0299P). | Joseph P. Casey, Chesterfield County Administrator, 9901 Lori Road, Chesterfield, VA 23832. | Chesterfield County Planning Department, 9800 Government Center Parkway, Chesterfield, VA 23832. | https://msc.fema.gov/portal/advanceSearch. | Apr. 13, 2026 | 510035
Henrico | Unincorporated areas of Henrico County (25-03-0324P). | John Vithoulkas, Henrico County Manager, P.O. Box 90775, Henrico, VA 23273. | Henrico County Government Office, 4301 East Parham Road, Henrico, VA 23228. | https://msc.fema.gov/portal/advanceSearch. | Apr. 13, 2026 | 510077

[FR Doc. 2026-01745 Filed 1-28-26; 8:45 am]

BILLING CODE 9110-12-P